NUCLEAR WASTE TECHNICAL REVIEW BOARD

Board Meeting

The U.S. Nuclear Waste Technical Review Board will hold a virtual public meeting on August 24, 2021.

Board meeting: August 24, 2021—The U.S. Nuclear Waste Technical Review Board will hold an online virtual public meeting to review information on the Department of Energy's (DOE) technology development activities related to packaging, drying, and dry storage of DOE aluminum-clad spent nuclear fuel (SNF).

Pursuant to its authority under section 5051 of Public Law 100-203, Nuclear Waste Policy Amendments Act (NWPAA) of 1987, the U.S. Nuclear Waste Technical Review Board will hold an online virtual public meeting on Tuesday, August 24, 2021, to review information on the U.S. Department of Energy's (DOE) technology development activities related to packaging, drying, and dry storage of DOE aluminum-clad spent nuclear fuel (SNF).

The meeting will begin at 11:30 a.m. Eastern Daylight Time (EDT) and is scheduled to adjourn at 5:10 p.m. EDT. Speakers representing the DOE Office of Environmental Management and the national laboratories conducting the work for DOE will report on DOE's technology development program on aluminum-clad SNF packaging, drying, and dry storage. Speakers will describe DOE's program, including plans and goals, scope, and technical approach to better understand the characteristics and performance of aluminum-clad SNF that will be packaged and sealed into canisters designed for storage, transportation and disposal. Speakers will address the primary challenge to extended dry storage of aluminum-clad SNF, which is centered on the behavior of hydrated oxides and radiolytic breakdown of associated adsorbed and chemically-bound water. Laboratory speakers will address drying of aluminum-clad SNF surrogates, and radiolytic gas generation during storage in unsealed canisters and during extended dry storage (>50 years) in sealed canisters. The final speaker will describe efforts to develop remote sensors for measuring pressure, temperature, humidity, and hydrogen gas concentration inside a dry storage canister containing aluminum-clad SNF. A detailed meeting agenda will be available on the Board's website at www.nwtrb.gov approximately one week before the meeting.

The meeting will be open to the public, and opportunities for public comment will be provided. Details on how to submit public comments during the meeting will be provided on the Board's website along with the details for viewing the meeting. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by October 24, 2021.

The Board was established in the Nuclear Waste Policy Amendments Act of 1987 as an independent federal agency in the Executive Branch to evaluate the technical and scientific validity of DOE activities related to the management and disposal of SNF and high-level radioactive waste, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie: leslie@nwtrb.gov or Dan Ogg: ogg@nwtrb.gov. For information on logistics, or to request copies of the meeting agenda or transcript, contact Davonya Barnes: barnes@nwtrb.gov. All three may be reached by mail at 2300 Clarendon Boulevard, Suite 1300, Arlington, VA 22201-3367; by telephone at 703-235-4473; or by fax at 703-235-4495.

Dated: July 21, 2021.
Nigel Mote,
Executive Director, U.S. Nuclear Waste Technical Review Board.

[FR Doc. 2021-15887 Filed 7-26-21; 8:45 am]

BILLING CODE 6820-AM-P